DEPARTMENT OF VETERANS AFFAIRS

[OMB Control No. 2900-0091]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before March 26 2004.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail to: denise.mclamb@mail.va.gov. Please refer to “OMB Control No. 2900-0091.”

Send comments and recommendations concerning any aspect of the information collection to VA's OMB Desk Officer, OMB Human Resources and Housing Branch, New Executive Office Building, Room 10235, Washington, DC 20503, (202) 395-7316. Please refer to “OMB Control No. 2900-0091” in any correspondence.

SUPPLEMENTARY INFORMATION: Titles:

a. Application for Health Benefits, VA Form 10-10EZ.

b. Health Benefits Renewal Form, VA Form 10-10EZR.

OMB Control Number: 2900-0091.

Type of Review: Revision of a currently approved collection.

Abstract:

a. VA Form 10-10EZ is used by veterans to enroll for health care benefits.

b. VA Form 10-10EZR is used by veterans to update their application data.

An agency may not conduct or sponsor, and a person is not required to respond to a collection of information unless it displays a currently valid OMB control number. The Federal Register Notice with a 60-day comment period soliciting comments on this collection of information was published on November 5, 2003, at pages 62663-62664.

Affected Public: Individuals or households.

Estimated Annual Burden:

a. VA Form 10-10EZ—525,000 hours.

b. VA Form 10-10EZR—400,000.

Estimated Average Burden Per Respondent:

a. VA Form 10-10EZ—45 minutes.

b. VA Form 10-10EZR—20 minutes.

Frequency of Response: Annually.

Estimated Number of Respondents:

a. VA Form 10-10EZ—700,000.

b. VA Form 10-10EZR—1,200,000.

Dated: February 12, 2004.
By direction of the Secretary.
Denise McLamb,
Program Analyst, Records Management Service.

[FR Doc. 04-4111 Filed 2-24-04; 8:45 am]

BILLING CODE 8320-01-P